DEPARTMENT OF TRANSPORTATION

Federal Railroad Administration

[Docket Number FRA-2002-14116]

Notice of Application for Approval of Discontinuance or Modification of a Railroad Signal System or Relief From Requirements

In accordance with Part 235 of Title 49 Code of Federal Regulations (CFR) and 49 U.S.C. 20502(a), this document provides the public notice that by a document dated January 21, 2013, the Grand Trunk Western Railroad Company (GTW), which operates under the trade name of the Canadian National Railway Company (CN), has petitioned the Federal Railroad Administration (FRA) for an extension of relief from the requirements of the rules, standards, and instructions contained in 49 CFR part 236. FRA assigned the petition Docket Number FRA-2002-14116.

In 2002, CN sought relief from 49 CFR 236.408 so that route locking need not be provided for the power-operated switches at the 32nd Street crossover at Milepost 333.28 in the existing traffic control system at Port Huron, MI, on the Midwest Division, Flint Subdivision. The request was based on the fact that the design of the 32nd Street crossover is not uncommon in the railroad industry, and it provides all the requisite components and safety features of a standard interlocking, or an electric lock location. FRA issued the initial relief to CN in 2003. CN subsequently requested an extension of relief, which FRA granted in 2008.

GTW has operated under this waiver for nearly 10 years without incident, and it therefore believes that extending this waiver and making it permanent is appropriate.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 11, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 20, 2013.
Robert C. Lauby,
Deputy Associate Administrator for Regulatory and Legislative Operations.

[FR Doc. 2013-04287 Filed 2-22-13; 8:45 am]

BILLING CODE 4910-06-P